DEPARTMENT OF THE INTERIOR

Bureau of Land Management

[LLWY-957400-11-L14200000-BJ0000]

Notice of Filing of Plats of Survey, Wyoming

AGENCY: Bureau of Land Management, Interior.

ACTION: Notice of filing of plats of survey, Wyoming.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These surveys were executed at the request of the Bureau of Land Management, and are necessary for the management of resources. The lands surveyed are:

The plat and field notes representing the dependent resurvey of a portion of the subdivisional lines and the subdivision of section 10, Township 13 North, Range 77 West, Sixth Principal Meridian, Wyoming, Group No. 801, was accepted September 29, 2010.

The plat and field notes representing the dependent resurvey of a portion of the Twelfth Auxiliary Meridian West, through Township 52 North, between Ranges 100 and 101 West, a portion of Lot No. 43 and the metes and bounds survey of Lot 43-C, Township 52 North, Range 100 West, Sixth Principal Meridian, Wyoming, Group No. 802, was accepted September 29, 2010.

The plat and field notes representing the dependent resurvey of a portion of the Thirteenth Standard Parallel North, through Range 100 West, Lot No. 41 and the subdivision of Lot No. 41, Township 53 North, Range 100 West, Sixth Principal Meridian, Wyoming, Group No. 802, was accepted September 29, 2010.

The plat and field notes representing the dependent resurvey of a portion of the subdivisional lines and the subdivision of sections 9 and 10, Township 47 North, Range 60 West, Sixth Principal Meridian, Wyoming, Group No. 803, was accepted September 29, 2010.

The plat and field notes representing the dependent resurvey of the subdivisional lines, Township 22 North, Range 93 West, Sixth Principal Meridian, Wyoming, Group No. 807, was accepted September 29, 2010.

The plat and field notes representing the dependent resurvey of the south boundary, west boundary and the subdivisional lines, Township 28 North, Range 109 West, Sixth Principal Meridian, Wyoming, Group No. 808, was accepted September 29, 2010.

Copies of the preceding described plats and field notes are available to the public at a cost of $1.10 per page.

Dated: October 21, 2010.
John P. Lee,
Chief Cadastral Surveyor, Division of Support Services.

[FR Doc. 2010-27342 Filed 10-28-10; 8:45 am]

BILLING CODE 4310-22-P